DEPARTMENT OF THE INTERIOR

Bureau of Reclamation

Information Collection Activities Under OMB Review

AGENCY: Bureau of Reclamation, Interior.

ACTION: Notice of Data Collection Submission.

SUMMARY: In compliance with the Paperwork Reduction Act (44 U.S.C. 3501 et seq., this notice announces that the Information Collection Request (ICR) abstracted below (OMB No. 1006-0015) has been forwarded to the Office of Management and Budget (OMB) for review and comment. The ICR describes the nature of the information collection and its expected cost and burden.

DATES: Comments must be submitted on or before August 16, 2006.

ADDRESSES: You may send comments regarding the burden estimate, or any other aspect of the information collection, including suggestions for reducing the burden, to the Desk Officer for the Department of the Interior at the Office of Management and Budget, Office of Information and Regulatory Affairs, via facsimile at 202-395-6566 or via e-mail at OIRA_Docket@omb.eop.gov. A copy of your comments should also be directed to the Bureau of Reclamation, Attention Ms. Nancy DiDonato, Contract and Repayment Specialist, Lower Colorado Regional Office, P.O. Box 61470, Boulder City, NV 89006-1470.

FOR FURTHER INFORMATION CONTACT: For further information or a copy of the proposed collection of information, contact Ms. Nancy DiDonato at 702-293-8532.

SUPPLEMENTARY INFORMATION: Comments are invited on: (a) Whether the proposed collection of information is necessary for the proper performance of the functions of Reclamation, including whether the information shall have practical use; (b) the accuracy of Reclamation's estimated burden of the proposed collection of information; (c) ways to enhance the quality, use, and clarity of the information to be collected; and (d) ways to minimize the burden of the collection of information on those who are to respond, including through the use of automated collection techniques or other forms of information technology.

Our practice is to make comments, including names and home addresses of respondents, available for public review. Individual respondents may request that we withhold their home address from public disclosures, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Title: Diversions, Return Flows, and Consumptive Use of Colorado River Water in the Lower Colorado River Basin.

OMB No.: 1006-0015.

Abstract: Reclamation delivers Colorado River water to water users for diversion and beneficial consumptive use in the States of Arizona, California, and Nevada. Under Supreme Court order, the United States is required, at least annually, to prepare and maintain complete, detailed, and accurate records of diversions of water, return flow, and consumptive use. This information is needed to ensure that a State or a water user within a State does not exceed its authorized use of Colorado River water. Water users are obligated by provisions in their water delivery contracts to provide Reclamation information on diversions and return flows. Reclamation determines the consumptive use by subtracting return flow from diversions or by other engineering means. Without the information collected, Reclamation could not comply with the order of the United States Supreme Court to prepare and maintain detailed and accurate records of diversions, return flow, and consumptive use.

Description of respondents: The Lower Basin States (Arizona, California, and Nevada), local and tribal entities, water districts, and individuals that use Colorado River water.

Frequency: Monthly, annually, or otherwise as determined by the Secretary of the Interior.

Estimated total number of respondents: 54.

Estimated total number of annual responses: 330.

Estimated total annual burden hours: 290.

Estimated Burden for Each Form
Form No. | Estimated No. of respondents | Total responses per year | Estimated annual burden hours per form
LC-72 | 6 | 78 | 54
LC-72A | 8 | 20 | 30
LC-72B | 15 | 51 | 78
Custom Forms | 25 | 181 | 128

An agency may not conduct or sponsor, and a person is not required to respond to, a collection of information unless it displays a currently valid OMB control number Reclamation will display a valid OMB control number on the forms. The Federal Register notice with a 60-day comment period soliciting comments on this collection of information was published on April 17, 2006 (71 FR 19749). Reclamation received no comments on this collection of information during the comment period.

OMB has up to 60 days to approve or disapprove this information collection, but may respond after 30 days, therefore, public comment should be submitted to OMB within 30 days in order to assure maximum consideration.

Gary Palmeter,
Manager, Information Management Division, Denver Office.

[FR Doc. 06-6245 Filed 7-14-06; 8:45 am]

BILLING CODE 4310-MN-M